DEPARTMENT OF THE INTERIOR

Bureau of Land Management

[17X LLWO600000.L18200000.XP0000]

Dominguez-Escalante National Conservation Area Advisory Council, Colorado; Postponement of Meeting

AGENCY: Bureau of Land Management, Interior.

ACTION: Notice.

SUMMARY: The May 3, 2017, Dominguez-Escalante National Conservation Area (NCA) Advisory Council meeting has been postponed.

DATES: The meeting was scheduled for May 3, 2017, in Delta, Colorado, and will be rescheduled at a later date. We will publish a future notice with the new meeting date and location.

FOR FURTHER INFORMATION CONTACT: Collin Ewing, Advisory Council designated Federal Official, (970) 244-3049; or by email at cewing@blm.gov. Persons who use a telecommunications device for the deaf (TDD) may call the Federal Relay Service (FRS) at 1-800-877-8339 to leave a message or question for Mr. Ewing. The FRS is available 24 hours a day, 7 days a week. You will receive a reply during normal business hours.

SUPPLEMENTARY INFORMATION: The 10-member council advises the Secretary of the Interior, through the BLM, on a variety of planning and management issues associated with the Resource Management Plan process for the Dominguez-Escalante NCA and Dominguez Canyon Wilderness. Additional information is available in the meeting notice published on April 12, 2017 (82 FR 17683).

Authority: 5 U.S.C. Appendix 2.

Patrick Wilkinson,
Acting Assistant Director, Communications.

[FR Doc. 2017-09009 Filed 5-3-17; 8:45 am]

BILLING CODE 4310-84-P